DEPARTMENT OF TRANSPORTATION

National Highway Traffic Safety Administration

Annual List of Defect and Noncompliance Decisions Affecting Nonconforming Imported Vehicles

AGENCY: National Highway Traffic Safety Administration (NHTSA), DOT.

ACTION: Annual list of defect and noncompliance decisions affecting nonconforming vehicles imported by registered importers.

SUMMARY: This document contains a list of vehicles recalled by their manufacturers during Calendar Year 2001 (January 1, 2001 through December 31, 2001) to correct a safety-related defect or a noncompliance with an applicable Federal motor vehicle safety standard (FMVSS). The listed vehicles are those that NHTSA has decided are substantially similar to vehicles imported into the United States that were not originally manufactured and certified to conform to all applicable FMVSS. The registered importers of those nonconforming vehicles are required to provide their owners with notification of, and a remedy for, the defects or noncompliances for which the listed vehicles were recalled.

FOR FURTHER INFORMATION CONTACT: George Entwistle, Office of Vehicle Safety Compliance, NHTSA (202-366-5306).

SUPPLEMENTARY INFORMATION: Under 49 U.S.C. 30141(a)(1)(A), a motor vehicle that was not originally manufactured to conform to all applicable Federal motor vehicle safety standards (FMVSS) shall be refused admission into the United States unless NHTSA has decided that the motor vehicle is substantially similar to a motor vehicle of the same model year that was originally manufactured for importation into and sale in the United States and certified under 49 U.S.C. 30115. Once NHTSA decides that a nonconforming vehicle is eligible for importation, it may be imported by a person who is registered with the agency pursuant to 49 U.S.C. 30141(c). Before releasing the vehicle for use on public streets, roads, or highways, the registered importer must certify to NHTSA, pursuant to 49 U.S.C. 30146(a), that the vehicle has been brought into conformity with all applicable FMVSS.

If a vehicle originally manufactured for importation into and sale in the United States is decided to contain a defect related to motor vehicle safety, or not to comply with an applicable FMVSS, 49 U.S.C. 30147(a)(1)(A) provides that the same defect or noncompliance is deemed to exist in any nonconforming vehicle that NHTSA has decided to be substantially similar and for which a registered importer has submitted a certificate of conformity to the agency. Under 49 U.S.C. 30147(a)(1)(B), the registered importer is deemed to be the nonconforming vehicle's manufacturer for the purpose of providing notification of, and a remedy for, the defect or noncompliance.

To apprise registered importers of the vehicles for which they must conduct a notification and remedy (i.e., “recall”) campaign, 49 U.S.C. 30147(a)(2) requires NHTSA to publish in the Federal Register notice of any defect or noncompliance decision that is made with respect to substantially similar U.S. certified vehicles. Annex A contains a list of all such decisions that were made during Calendar Year 2001. The list identifies the Recall Number that was assigned to the recall by NHTSA after the agency received the manufacturer's notification of the defect or noncompliance under 49 CFR part 573. After December 31, 2002, NHTSA will publish a comparable list of all defect and noncompliance decisions affecting nonconforming imported vehicles that are made during the current calendar year.

The vehicles listed were all remedied through repair. There were no campaigns in this period that remedied the safety related defect or noncompliance by replacing the vehicle or by refunding the purchase price.

Authority: 49 U.S.C. 30147(a)(2); 49 CFR 593.8; delegations of authority at 49 CFR 1.50 and 501.8.

Issued on: April 30, 2002.
Marilynne Jacobs,
Director, Office of Vehicle Safety Compliance.

Annex A.—Calendar Year 2001 Recalls Affecting Vehicles Imported by Registered Importers
Make | Model | Year | Recall No.
ACURA | 3.2TL | 2000 | 01V166002
ACURA | 3.2TL | 2001 | 01V166002
ACURA | 3.2TL | 2002 | 01V166001
ACURA | 3.2TL | 2002 | 01V166002
ACURA | LEGEND | 1991 | 01V053000
ACURA | LEGEND | 1992 | 01V053000
AUDI | 100 | 1993 | 00V084000
AUDI | A4 | 1996 | 00V317000
AUDI | A4 | 1997 | 00V317000
AUDI | A4 | 1999 | 00V414000
AUDI | A6 | 1998 | 01V157000
AUDI | A6 | 1999 | 00V414000
AUDI | A6 | 1999 | 01V157000
AUDI | A6 | 2000 | 01V157000
AUDI | A6 | 2001 | 01V202000
AUDI | S4 | 1993 | 00V068000
AUDI | S4 | 1994 | 00V068000
AUDI | S6 | 1995 | 00V068000
BENTLEY | CONTINENTAL R | 2000 | 01V096000
BMW | 330I | 2001 | 00V383000
BMW | M5 | 2000 | 01V001000
BMW | M5 | 2001 | 01V001000
BMW | X5 | 2001 | 01V030000
BMW | 325CI | 2001 | 01V206000
BMW | 325I | 2001 | 01V206000
BMW | 330CI | 2001 | 01V206000
BMW | 540I | 2001 | 01V206000
BMW | M3 | 2001 | 01V245000
BMW | R1200C | 1998 | 01V217000
BMW | X5 | 2000 | 01V195000
BMW | X5 | 2000 | 01V196000
BMW | X5 | 2001 | 01V173000
BMW | X5 | 2001 | 01V196000
BMW | X5 | 2001 | 01V197000
BMW | X5 | 2001 | 01V206000
BMW | Z8 | 2001 | 01V206000
BUICK | PARK AVENUE | 2000 | 00V346000
BUICK | PARK AVENUE | 2001 | 00V346000
BUICK | SKYLARK | 1995 | 00V287000
CADILLAC | DEVILLE | 1998 | 00V217000
CADILLAC | DEVILLE | 1999 | 00V217000
CADILLAC | DEVILLE | 2000 | 00V347000
CADILLAC | DEVILLE | 2001 | 00V347000
CADILLAC | DEVILLE | 2001 | 01V172000
CADILLAC | SEVILLE | 2001 | 00V432000
CHEVROLET | ASTRO | 1996 | 01V123000
CHEVROLET | ASTRO | 1997 | 01V123000
CHEVROLET | ASTRO | 1998 | 01V123000
CHEVROLET | ASTRO | 1999 | 01V123000
CHEVROLET | BLAZER | 1996 | 01V200000
CHEVROLET | BLAZER | 1997 | 01V200000
CHEVROLET | C2500 | 2001 | 01V220000
CHEVROLET | CAMARO | 2002 | 01V381000
CHEVROLET | EXPRESS | 1997 | 00V110000
CHEVROLET | IMPALA | 2000 | 01V136000
CHEVROLET | IMPALA | 2001 | 01V136000
CHEVROLET | K2500 | 2001 | 01V220000
CHEVROLET | K2500 | 2002 | 01V220000
CHEVROLET | K3500 | 2001 | 01V220000
CHEVROLET | MALIBU | 1997 | 01V068000
CHEVROLET | MALIBU | 1998 | 01V068000
CHEVROLET | SILVERADO | 1999 | 00V345000
CHEVROLET | SILVERADO | 2000 | 00V345000
CHEVROLET | SUBURBAN | 1992 | 01I006000
CHEVROLET | SUBURBAN | 1993 | 01I006000
CHEVROLET | SUBURBAN | 1994 | 01I006000
CHEVROLET | SUBURBAN | 2000 | 00V345000
CHEVROLET | SUBURBAN | 2001 | 01V159000
CHEVROLET | TAHOE | 2000 | 00V345000
CHEVROLET | TAHOE | 2001 | 01V159000
CHEVROLET | TRAILBLAZER | 2002 | 01V126000
CHEVROLET | TRAILBLAZER | 2002 | 01V283000
CHEVROLET | TRAILBLAZER | 2002 | 01V334000
CHEVROLET | VENTURE | 1997 | 01V067000
CHEVROLET | VENTURE | 1997 | 01V264000
CHEVROLET | VENTURE | 1998 | 01V067000
CHEVROLET | VENTURE | 1998 | 01V264000
CHEVROLET | VENTURE | 1999 | 01V067000
CHEVROLET | VENTURE | 1999 | 01V264000
CHEVROLET | VENTURE | 2000 | 01V067000
CHEVROLET | VENTURE | 2000 | 01V264000
CHEVROLET | VENTURE | 2001 | 01V026000
CHEVROLET | VENTURE | 2001 | 01V067000
CHEVROLET | VENTURE | 2001 | 01V264000
CHRYSLER | CONCORDE | 1999 | 01V119000
CHRYSLER | LHS | 1999 | 01V119000
CHRYSLER | PT CRUISER | 2002 | 01V288000
CHRYSLER | SEBRING | 1995 | 00V421002
CHRYSLER | SEBRING | 1996 | 00V421002
CHRYSLER | SEBRING | 1997 | 00V421002
CHRYSLER | SEBRING | 1998 | 00V421002
CHRYSLER | SEBRING | 1999 | 00V421002
CHRYSLER | SEBRING | 2000 | 00V421002
CHRYSLER | SEBRING | 2001 | 00V278000
CHRYSLER | SEBRING | 2001 | 01V005002
CHRYSLER | SEBRING | 2001 | 01V011002
CHRYSLER | TOWN AND COUNTRY | 2001 | 01I003000
DODGE | AVENGER | 1995 | 00V421002
DODGE | AVENGER | 1996 | 00V421002
DODGE | AVENGER | 1997 | 00V421002
DODGE | AVENGER | 1998 | 00V421002
DODGE | AVENGER | 1999 | 00V421002
DODGE | CARAVAN | 1999 | 01V119000
DODGE | CARAVAN | 2001 | 01I003000
DODGE | CARAVAN | 2001 | 01V152000
DODGE | CARAVAN | 2002 | 01V310000
DODGE | DAKOTA | 1989 | 01V232000
DODGE | DAKOTA | 1990 | 01V232000
DODGE | DAKOTA | 1997 | 01V153000
DODGE | DAKOTA | 1998 | 01V153000
DODGE | DAKOTA | 1999 | 01V119000
DODGE | DAKOTA | 1999 | 01V153000
DODGE | DAKOTA | 2000 | 01V153000
DODGE | DAKOTA | 2001 | 01V077000
DODGE | DURANGO | 1997 | 01V153000
DODGE | DURANGO | 1998 | 01V153000
DODGE | DURANGO | 1999 | 01V119000
DODGE | DURANGO | 1999 | 01V153000
DODGE | DURANGO | 2000 | 01V153000
DODGE | DURANGO | 2001 | 01V077000
DODGE | GRAND CARAVAN | 2001 | 01I003000
DODGE | GRAND CARAVAN | 2001 | 01V152000
DODGE | GRAND CARAVAN | 2002 | 01V310000
DODGE | INTREPID | 1999 | 01V119000
DODGE | NEON | 2000 | 01V154000
DODGE | NEON | 2001 | 01V154000
DODGE | RAM | 1994 | 01V037000
DODGE | RAM | 1994 | 01V040000
DODGE | RAM | 1995 | 01V037000
DODGE | RAM | 1995 | 01V040000
DODGE | RAM | 1996 | 01V037000
DODGE | RAM | 1996 | 01V040000
DODGE | RAM | 1997 | 01V040000
DODGE | RAM | 1997 | 01V153000
DODGE | RAM | 1998 | 01V040000
DODGE | RAM | 1998 | 01V153000
DODGE | RAM | 1999 | 01V040000
DODGE | RAM | 1999 | 01V119000
DODGE | RAM | 1999 | 01V153000
DODGE | RAM | 2000 | 01V038000
DODGE | RAM | 2000 | 01V153000
DODGE | RAM | 2000 | 01V253000
DODGE | RAM | 2001 | 01V008000
DODGE | RAM | 2001 | 01V153000
DODGE | RAM | 2001 | 01V184000
DODGE | RAM | 2001 | 01V253000
DODGE | RAM | 2001 | 01V289000
EAGLE | TALON | 1995 | 00V421002
EAGLE | TALON | 1997 | 00V421002
FERRARI | 360 MODENA | 1999 | 01V025000
FERRARI | 360 MODENA F1 | 1999 | 01V025000
FERRARI | 550 BARCHETTA | 2001 | 01V211000
FERRARI | 550 MARANELLO | 1997 | 01V297000
FERRARI | 550 MARANELLO | 1998 | 01V297000
FERRARI | 550 MARANELLO | 1999 | 01V297000
FERRARI | 550 MARANELLO | 2001 | 01V211000
FORD | AEROSTAR | 1997 | 00V425000
FORD | CONTOUR | 1995 | 00V367000
FORD | CONTOUR | 1995 | 01I009000
FORD | CONTOUR | 1996 | 00V367000
FORD | CONTOUR | 1996 | 01I009000
FORD | CONTOUR | 1996 | 01V230000
FORD | CONTOUR | 1997 | 01I009000
FORD | CONTOUR | 1997 | 01V230000
FORD | CONTOUR | 1998 | 01I013000
FORD | CONTOUR | 1998 | 01V230000
FORD | CONTOUR | 1998 | 01V255000
FORD | CROWN VICTORIA | 2001 | 01V227001
FORD | E150 | 1997 | 01V114000
FORD | E150 | 1998 | 01V114000
FORD | E150 | 1999 | 01V114000
FORD | E150 | 2000 | 01V114000
FORD | E150 | 2001 | 01V114000
FORD | E350 | 1997 | 01V114000
FORD | E350 | 1998 | 01V114000
FORD | E350 | 1999 | 01V114000
FORD | E350 | 2000 | 01V114000
FORD | E350 | 2001 | 01V114000
FORD | EXCURSION | 2000 | 01V075000
FORD | EXCURSION | 2000 | 01V258000
FORD | EXCURSION | 2001 | 01V082000
FORD | EXCURSION | 2001 | 01V227001
FORD | EXCURSION | 2001 | 01V258000
FORD | EXPEDITION | 2000 | 01V258000
FORD | EXPEDITION | 2001 | 01V227001
FORD | EXPEDITION | 2001 | 01V258000
FORD | EXPEDITION | 2001 | 01V082000
FORD | EXPLORER | 1997 | 00V422000
FORD | EXPLORER | 1998 | 00V422000
FORD | EXPLORER | 1999 | 00V395000
FORD | EXPLORER | 2000 | 00V395000
FORD | EXPLORER | 2002 | 01I010000
FORD | EXPLORER | 2002 | 01V171000
FORD | EXPLORER SPORT | 2000 | 00V394000
FORD | EXPLORER SPORT | 2001 | 00V394000
FORD | F150 | 1990 | 01I008000
FORD | F150 | 1991 | 01I008000
FORD | F150 | 1992 | 01I008000
FORD | F150 | 1993 | 00V424000
FORD | F150 | 1993 | 01I008000
FORD | F150 | 1999 | 02V008000
FORD | F150 | 2000 | 01V258000
FORD | F150 | 2001 | 01V082000
FORD | F150 | 2001 | 01V095000
FORD | F150 | 2001 | 01V227001
FORD | F150 | 2001 | 01V258000
FORD | F250 | 1990 | 01I008000
FORD | F250 | 1991 | 01I008000
FORD | F250 | 1992 | 01I008000
FORD | F250 | 1993 | 00V424000
FORD | F250 | 1993 | 01I008000
FORD | F250 | 2000 | 01V258000
FORD | F250 | 2001 | 01V082000
FORD | F250 | 2001 | 01V227001
FORD | F250 | 2001 | 01V258000
FORD | F350 | 1990 | 01I008000
FORD | F350 | 1991 | 01I008000
FORD | F350 | 1992 | 01I008000
FORD | F350 | 1993 | 00V424000
FORD | F350 | 1993 | 01I008000
FORD | F350 | 2000 | 01V258000
FORD | F350 | 2001 | 01V082000
FORD | F350 | 2001 | 01V106000
FORD | F350 | 2001 | 01V227001
FORD | F350 | 2001 | 01V258000
FORD | F450 | 1999 | 01V046000
FORD | F450 | 2000 | 01V046000
FORD | F450 | 2000 | 01V258000
FORD | F450 | 2001 | 01V046000
FORD | F450 | 2001 | 01V082000
FORD | F450 | 2001 | 01V227001
FORD | F450 | 2001 | 01V258000
FORD | F550 | 1999 | 01V046000
FORD | F550 | 2000 | 01V046000
FORD | F550 | 2000 | 01V258000
FORD | F550 | 2001 | 01V227001
FORD | F550 | 2001 | 01V258000
FORD | F550 | 2001 | 01V046000
FORD | F650 | 2000 | 00V232007
FORD | F750 | 2000 | 00V232007
FORD | F750 | 2000 | 01V258000
FORD | FOCUS | 2000 | 00V418000
FORD | FOCUS | 2000 | 01I017000
FORD | FOCUS | 2000 | 01V258000
FORD | FOCUS | 2001 | 00V418000
FORD | FOCUS | 2001 | 01I017000
FORD | FOCUS | 2001 | 01V108000
FORD | FOCUS | 2001 | 01V258000
FORD | LOUISVILLE | 1998 | 00V335000
FORD | MUSTANG | 1994 | 01V318000
FORD | MUSTANG | 1995 | 01I011000
FORD | MUSTANG | 1995 | 01V318000
FORD | MUSTANG | 1995 | 01V390000
FORD | MUSTANG | 1996 | 01V318000
FORD | MUSTANG | 1997 | 01V318000
FORD | MUSTANG COBRA | 1999 | 01V121000
FORD | RANGER | 2001 | 00V394000
FORD | RANGER | 2001 | 01V227001
FORD | TAURUS | 1995 | 01I011000
FORD | TAURUS | 1995 | 01V390000
FORD | TAURUS | 2000 | 01V048000
FORD | TAURUS | 2000 | 01V075000
FORD | TAURUS | 2000 | 01V078000
FORD | TAURUS | 2000 | 01V258000
FORD | TAURUS | 2001 | 01V048000
FORD | TAURUS | 2001 | 01V078000
FORD | TAURUS | 2001 | 01V144000
FORD | TAURUS | 2001 | 01V258000
FORD | WINDSTAR | 1995 | 01I007000
FORD | WINDSTAR | 1996 | 01I007000
FORD | WINDSTAR | 1997 | 01I007000
FORD | WINDSTAR | 1997 | 01V199000
FORD | WINDSTAR | 1998 | 01I007000
FORD | WINDSTAR | 1998 | 01V199000
FORD | WINDSTAR | 1999 | 00V351000
FORD | WINDSTAR | 1999 | 01V261000
FORD | WINDSTAR | 1999 | 01V262000
FORD | WINDSTAR | 2000 | 00V351000
FORD | WINDSTAR | 2000 | 01V207000
FORD | WINDSTAR | 2000 | 01V261000
FORD | WINDSTAR | 2000 | 01V262000
FORD | WINDSTAR | 2001 | 01V207000
FORD | WINDSTAR | 2001 | 01V227001
FORD | WINDSTAR | 2001 | 01V261000
FORD | WINDSTAR | 2001 | 01V262000
GMC | ENVOY | 1998 | 00V375000
GMC | ENVOY | 1999 | 00V375000
GMC | ENVOY | 2000 | 00V375000
GMC | ENVOY | 2001 | 00V375000
GMC | ENVOY | 2002 | 01V126000
GMC | ENVOY | 2002 | 01V158000
GMC | ENVOY | 2002 | 01V283000
GMC | ENVOY | 2002 | 01V334000
GMC | JIMMY | 1996 | 01V200000
GMC | JIMMY | 1997 | 01V200000
GMC | K2500 | 2001 | 01V220000
GMC | K2500 | 2002 | 01V220000
GMC | K3500 | 2001 | 01V220000
GMC | K3500 | 2002 | 01V220000
GMC | SAFARI | 1996 | 01V123000
GMC | SAFARI | 1997 | 01V123000
GMC | SAFARI | 1998 | 01V123000
GMC | SAFARI | 1999 | 01V123000
GMC | SAVANA | 1996 | 00V110000
GMC | SAVANA | 1997 | 00V110000
GMC | SIERRA | 1999 | 00V345000
GMC | SIERRA | 2000 | 00V345000
GMC | SUBURBAN | 1992 | 01I006000
GMC | SUBURBAN | 1993 | 01I006000
GMC | SUBURBAN | 1994 | 01I006000
GMC | SUBURBAN | 2001 | 01V159000
GMC | YUKON | 2000 | 00V345000
GMC | YUKON | 2001 | 01V159000
GMC | YUKON DENALI | 2001 | 01V107000
GMC | YUKON XL | 2000 | 00V345000
GMC | YUKON XL | 2001 | 01V159000
GMC | YUKON XL DENALI | 2001 | 01V107000
HARLEY DAVIDSON | DYNA GLIDE | 2001 | 01V278000
HARLEY DAVIDSON | FXDL | 2001 | 01I001000
HONDA | CBR929RR | 2000 | 00V403000
HONDA | CIVIC | 2001 | 01V182000
HONDA | CIVIC | 2001 | 01V183000
HONDA | CIVIC | 2001 | 01V329000
HONDA | CIVIC | 2002 | 01V329000
HYUNDAI | SONATA | 1997 | 00V314001
INFINITI | QX4 | 2001 | 01V282000
INTERNATIONAL | 2000 | 1999 | 00V232301
INTERNATIONAL | 2000 | 1999 | 01V140004
INTERNATIONAL | 4700 | 1995 | 00V413000
INTERNATIONAL | 4700 | 1999 | 01V102000
INTERNATIONAL | 4700 | 2000 | 01V102000
INTERNATIONAL | 4700 | 2001 | 01V102000
INTERNATIONAL | 5000 | 1999 | 01V140004
INTERNATIONAL | 8100 | 1997 | 01V023000
INTERNATIONAL | 8100 | 1998 | 01V023000
INTERNATIONAL | 8100 | 2000 | 01V023000
INTERNATIONAL | 8100 | 2001 | 01V023000
INTERNATIONAL | 9100 | 1998 | 01V023000
INTERNATIONAL | 9100 | 1999 | 01V023000
INTERNATIONAL | 9200 | 1997 | 01V023000
INTERNATIONAL | 9200 | 1998 | 01V023000
INTERNATIONAL | 9200 | 1999 | 01V023000
INTERNATIONAL | 9200 | 2000 | 01V023000
INTERNATIONAL | 9300 | 1997 | 01V023000
INTERNATIONAL | 9300 | 1998 | 01V023000
INTERNATIONAL | 9300 | 1999 | 01V023000
INTERNATIONAL | 9400 | 1997 | 01V023000
INTERNATIONAL | 9400 | 1999 | 01V023000
INTERNATIONAL | 9400 | 2000 | 01V023000
ISUZU | RODEO | 1998 | 01I002000
ISUZU | RODEO | 1999 | 01I002000
JEEP | GRAND CHEROKEE | 1999 | 01V119000
JEEP | GRAND CHEROKEE | 2001 | 01V007000
JEEP | GRAND CHEROKEE | 2002 | 01V288000
JEEP | LIBERTY | 2002 | 01V311000
KENWORTH | T2000 | 1996 | 01V051000
KENWORTH | T2000 | 1997 | 01V051000
KENWORTH | T2000 | 1998 | 01V051000
KENWORTH | T300 | 1999 | 01V044005
KENWORTH | T300 | 1999 | 01V140006
KENWORTH | T300 | 1999 | 01V268000
KENWORTH | T600 | 1997 | 01V051000
KENWORTH | T600 | 1998 | 01V051000
KENWORTH | T800 | 1994 | 01V142000
KENWORTH | T800 | 1995 | 01V142000
KENWORTH | T800 | 1996 | 01V051000
KENWORTH | T800 | 1996 | 01V142000
KENWORTH | T800 | 1997 | 01V051000
KENWORTH | T800 | 1997 | 01V142000
KENWORTH | T800 | 1997 | 01V293002
KENWORTH | T800 | 1998 | 01V051000
KENWORTH | T800 | 1998 | 01V142000
KENWORTH | T800 | 1999 | 01V051000
KENWORTH | T800 | 1999 | 01V142000
KENWORTH | T800 | 2000 | 01V021000
KENWORTH | T800 | 2000 | 01V051000
KENWORTH | T800 | 2000 | 01V140006
KENWORTH | T800 | 2000 | 01V142000
KENWORTH | T800 | 2000 | 01V167001
KENWORTH | T800 | 2001 | 01V021000
KENWORTH | T800 | 2001 | 01V051000
KENWORTH | T800 | 2001 | 01V142000
KENWORTH | T800 | 2001 | 01V305000
KENWORTH | T800 | 2001 | 01V335000
KENWORTH | W900 | 1994 | 01V142000
KENWORTH | W900 | 1995 | 01V142000
KENWORTH | W900 | 1996 | 01V051000
KENWORTH | W900 | 1996 | 01V142000
KENWORTH | W900 | 1997 | 01V051000
KENWORTH | W900 | 1997 | 01V142000
KENWORTH | W900 | 1998 | 01V051000
KENWORTH | W900 | 1998 | 01V142000
KENWORTH | W900 | 1999 | 01V021000
KENWORTH | W900 | 1999 | 01V051000
KENWORTH | W900 | 1999 | 01V140006
KENWORTH | W900 | 1999 | 01V142000
KENWORTH | W900 | 2000 | 01V021000
KENWORTH | W900 | 2000 | 01V051000
KENWORTH | W900 | 2000 | 01V142000
LAND ROVER | DISCOVERY | 1999 | 00V377000
LAND ROVER | DISCOVERY | 2000 | 00V377000
LAND ROVER | DISCOVERY II | 2000 | 00V423000
LAND ROVER | DISCOVERY II | 2000 | 01V229001
LAND ROVER | RANGE ROVER | 1995 | 00V328000
LAND ROVER | RANGE ROVER | 1996 | 00V328000
LAND ROVER | RANGE ROVER | 1997 | 00V328000
LAND ROVER | RANGE ROVER | 1998 | 00V328000
LAND ROVER | RANGE ROVER | 1999 | 00V328000
LAND ROVER | RANGE ROVER | 1999 | 00V329000
LAND ROVER | RANGE ROVER | 1999 | 00V377000
LINCOLN | CONTINENTAL | 2000 | 01V258000
LINCOLN | CONTINENTAL | 2001 | 01V258000
LINCOLN | NAVIGATOR | 2000 | 01V258000
LINCOLN | NAVIGATOR | 2001 | 01V227001
LINCOLN | NAVIGATOR | 2001 | 01V258000
LINCOLN | TOWN CAR | 1996 | 01V318000
LINCOLN | TOWN CAR | 1997 | 01V318000
LINCOLN | TOWN CAR | 1998 | 00V356000
LINCOLN | TOWN CAR | 1999 | 00V356000
LINCOLN | TOWN CAR | 2000 | 01V258000
LINCOLN | TOWN CAR | 2000 | 00V356000
LINCOLN | TOWN CAR | 2001 | 01V227001
LINCOLN | TOWN CAR | 2001 | 01V258000
LINCOLN | TOWN CAR | 2001 | 00V356000
MACK | DM | 1998 | 00V232009
MACK | MR | 1999 | 00V232009
MAZDA | PROTEGE | 2001 | 01V024000
MERCEDES BENZ | ML320 | 2002 | 01V290000
MERCURY | COUGAR | 1999 | 01V031000
MERCURY | COUGAR | 1999 | 01V032000
MERCURY | COUGAR | 1999 | 01V230000
MERCURY | COUGAR | 2000 | 01V031000
MERCURY | GRAND MARQUIS | 2001 | 01V227001
MERCURY | MYSTIQUE | 1995 | 00V367000
MERCURY | MYSTIQUE | 1995 | 01I009000
MERCURY | MYSTIQUE | 1996 | 00V367000
MERCURY | MYSTIQUE | 1996 | 01I009000
MERCURY | MYSTIQUE | 1996 | 01V230000
MERCURY | MYSTIQUE | 1997 | 01I009000
MERCURY | MYSTIQUE | 1997 | 01V230000
MERCURY | MYSTIQUE | 1998 | 01I013000
MERCURY | MYSTIQUE | 1998 | 01V230000
MERCURY | MYSTIQUE | 1998 | 01V255000
MERCURY | SABLE | 1995 | 01I011000
MERCURY | SABLE | 1995 | 01V390000
MERCURY | VILLAGER | 1993 | 00V419002
MERCURY | VILLAGER | 1994 | 00V419002
MERCURY | VILLAGER | 1995 | 00V419002
MERCURY | VILLAGER | 1996 | 00V419002
MERCURY | VILLAGER | 1997 | 00V419002
MERCURY | VILLAGER | 1998 | 00V419002
MITSUBISHI | ECLIPSE | 1995 | 00V421001
MITSUBISHI | ECLIPSE | 1995 | 00V421003
MITSUBISHI | MONTERO | 1992 | 00V311002
MITSUBISHI | MONTERO SPORT | 1999 | 01V027000
NISSAN | PATHFINDER | 2001 | 01V282000
NISSAN | QUEST | 1993 | 00V419001
NISSAN | QUEST | 1994 | 00V419001
NISSAN | QUEST | 1995 | 00V419001
NISSAN | QUEST | 1996 | 00V419001
NISSAN | QUEST | 1997 | 00V419001
NISSAN | QUEST | 1998 | 00V419001
NISSAN | SENTRA | 2000 | 01V174000
NISSAN | SENTRA | 2000 | 01V277000
NISSAN | SENTRA | 2000 | 01V357000
NISSAN | SENTRA | 2001 | 01V174000
NISSAN | SENTRA | 2001 | 01V277000
NISSAN | SENTRA | 2001 | 01V357000
OLDSMOBILE | ACHIEVA | 1994 | 00V287000
OLDSMOBILE | ACHIEVA | 1995 | 00V287000
OLDSMOBILE | ALERO | 2000 | 00V372000
OLDSMOBILE | ALERO | 2001 | 00V372000
OLDSMOBILE | BRAVADA | 2002 | 01V126000
OLDSMOBILE | CUTLASS | 1997 | 01V068000
OLDSMOBILE | SILHOUETTE | 1998 | 01V067000
OLDSMOBILE | SILHOUETTE | 1998 | 01V264000
OLDSMOBILE | SILHOUETTE | 1999 | 01V067000
OLDSMOBILE | SILHOUETTE | 1999 | 01V264000
OLDSMOBILE | SILHOUETTE | 2000 | 01V067000
OLDSMOBILE | SILHOUETTE | 2000 | 01V264000
OLDSMOBILE | SILHOUETTE | 2001 | 01V067000
OLDSMOBILE | SILHOUETTE | 2001 | 01V264000
PETERBILT | 330 | 1996 | 01V054000
PETERBILT | 330 | 1998 | 01V054000
PETERBILT | 357 | 1996 | 01V054000
PETERBILT | 357 | 1997 | 01V054000
PETERBILT | 357 | 1998 | 01V054000
PETERBILT | 357 | 1999 | 01V054000
PETERBILT | 357 | 2001 | 01V054000
PETERBILT | 357 | 2001 | 01V066000
PETERBILT | 357 | 2001 | 01V179000
PETERBILT | 362 | 2000 | 01V179000
PETERBILT | 362 | 2001 | 01V179000
PETERBILT | 378 | 1996 | 01V054000
PETERBILT | 378 | 1997 | 01V054000
PETERBILT | 378 | 1998 | 01V054000
PETERBILT | 378 | 1999 | 01V054000
PETERBILT | 378 | 2001 | 01V054000
PETERBILT | 378 | 2001 | 01V066000
PETERBILT | 378 | 2001 | 01V179000
PETERBILT | 379 | 1999 | 01V179000
PETERBILT | 379 | 2000 | 01V179000
PETERBILT | 379 | 2001 | 01V179000
PETERBILT | 385 | 1997 | 01V054000
PLYMOUTH | NEON | 2001 | 01V154000
PLYMOUTH | VOYAGER | 2001 | 01I003000
PONTIAC | AZTEC | 2001 | 01V026000
PONTIAC | FIREBIRD | 2002 | 01V381000
PONTIAC | GRAND AM | 1994 | 00V287000
PONTIAC | GRAND AM | 1995 | 00V287000
PONTIAC | GRAND AM | 2000 | 00V372000
PONTIAC | GRAND AM | 2001 | 00V372000
PONTIAC | GRAND PRIX | 2001 | 01V026000
PONTIAC | MONTANA | 1998 | 01V067000
PONTIAC | MONTANA | 1999 | 01V067000
PONTIAC | MONTANA | 2000 | 01V067000
PONTIAC | MONTANA | 2001 | 01V026000
PONTIAC | MONTANA | 2001 | 01V067000
PONTIAC | MONTANA | 1998 | 01V264000
PONTIAC | MONTANA | 1999 | 01V264000
PONTIAC | MONTANA | 2000 | 01V264000
PONTIAC | MONTANA | 2001 | 01V264000
PONTIAC | TRANSPORT | 1997 | 01V067000
PONTIAC | TRANSPORT | 1997 | 01V264000
PONTIAC | TRANSPORT | 1998 | 01V067000
PORSCHE | 911 TURBO | 2001 | 01V015000
PORSCHE | 911 TURBO | 2001 | 01V016000
PREVOST | H3-40 | 1992 | 01V035000
PREVOST | H3-45 | 1999 | 01V033003
PREVOST | H3-45 | 2000 | 01V033003
SAAB | 9-5 | 2001 | 01V168000
SAAB | 900 | 1998 | 01V222000
SUBARU | LEGACY | 1995 | 01V216000
SUBARU | LEGACY | 1996 | 01V216000
SUBARU | LEGACY | 1997 | 01V216000
SUBARU | LEGACY | 1998 | 01V216000
SUBARU | LEGACY | 1999 | 01V216000
SUBARU | LEGACY | 2001 | 00V392000
SUBARU | LEGACY | 2001 | 00V393000
SUBARU | LEGACY | 2001 | 01V034000
SUBARU | OUTBACK | 1996 | 01V216000
SUBARU | OUTBACK | 1997 | 01V216000
SUBARU | OUTBACK | 1998 | 01V216000
SUBARU | OUTBACK | 1999 | 01V216000
SUZUKI | GRAND VITARA | 2000 | 01V146000
TOYOTA | AVALON | 2001 | 01V072000
TOYOTA | CAMRY | 1998 | 01V012000
TOYOTA | CAMRY | 1999 | 01V012000
TOYOTA | CAMRY | 2000 | 01V012000
TOYOTA | CAMRY | 2001 | 01V012000
TOYOTA | CAMRY | 2001 | 01V072000
TOYOTA | SIENNA | 2001 | 01V072000
TOYOTA | TACOMA | 2001 | 01V186000
VOLKSWAGEN | PASSAT | 1999 | 00V414000
VOLKSWAGEN | PASSAT | 2000 | 00V147000
VOLKSWAGEN | PASSAT | 2000 | 01V157000
VOLKSWAGEN | PASSAT | 2001 | 01V157000
VOLVO | ACL | 1999 | 02V037002
VOLVO | C70 | 1998 | 00V405000
VOLVO | C70 | 1999 | 00V405000
VOLVO | C70 | 2000 | 00V405000
VOLVO | S40 | 2001 | 01V169000
VOLVO | S70 | 1998 | 00V405000
VOLVO | S70 | 1999 | 00V405000
VOLVO | S70 | 2000 | 00V405000
VOLVO | V40 | 2001 | 01V169000
VOLVO | V70 | 1998 | 00V405000
VOLVO | V70 | 1999 | 00V405000
VOLVO | V70 | 2000 | 00V405000
VOLVO | V70 | 2001 | 01V100000
VOLVO | V70 | 2001 | 01V101000
VOLVO | VN | 1998 | 01V093000
VOLVO | VN | 1999 | 01V093000
VOLVO | VNL | 2000 | 00V232003

[FR Doc. 02-11053 Filed 5-2-02; 8:45 am]

BILLING CODE 4910-59-P